FEDERAL COMMUNICATIONS COMMISSION

Notice of Public Information Collection(s) Being Reviewed by the Federal Communications Commission for Extension Under Delegated Authority

January 12, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments March 22, 2004. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the Internet to Judith-B.Herman@fcc.gov.

FOR FURTHER INFORMATION CONTACT: For additional information or copies of the information collections contact Judith B. Herman at 202-418-0214 or via the internet at Judith-B.Herman@fcc.gov.

SUPPLEMENTARY INFORMATION: OMB Control No.: 3060-0295.

Title: Supplemental Information to be Furnished by Applicants for Facilities Under Subpart 47 CFR Section 90.607(b)(1) and (c)(1).

Form No.: N/A.

Type of Review: Extension of a currently approved collection.

Respondents: Business or other for profit, not-for-profit institutions, and state, local, or tribal government.

Number of Respondents: 2,208.

Estimated Time Per Response: .25 hours.

Frequency of Response: On occasion reporting requirement.

Total Annual Burden: 507 hours.

Annual Cost Burden: N/A.

Needs and Uses: These rule sections require certain applicants that request 800 MHz facilities to furnish a list of any other licensed facilities that they hold within 40 miles of the base station for which they have applied. The information is used by licensing personnel to equitably distribute limited spectrum. The Commission is submitting this information collection to the Office of Management and Budget as an extension (no change).

OMB Control No.: 3060-0625.

Title: Amendment of the Commission's Rules to Establish New Personal Communications Services under Part 24.

Form No.: N/A.

Type of Review: Extension of a currently approved collection.

Respondents: Individuals or households, business or other for-profit entities, not-for-profit institutions, and state, local or tribal government.

Number of Respondents: 1,500.1

Estimated Time Per Response: .5-3 hours.

Frequency of Response: On occasion reporting requirement and recordkeeping requirement.

Total Annual Burden: 1,688 hours.

Annual Cost Burden: $675,000.

Needs and Uses: The reporting and recordkeeping requirements will be used to determine whether the proposed partitionee or disaggregate is an entity qualified to obtain a partitioned license or disaggregated spectrum. Without this information, the Commission would not be able to carry out its statutory responsibilities.

Federal Communications Commission.
Marlene H. Dortch,
Secretary.

[FR Doc. 04-1193 Filed 1-20-04; 8:45 am]

BILLING CODE 6712-01-P